OFFICE OF THE UNITED STATES TRADE REPRESENTATIVE

[Docket No. USTR-2019-0003]

Notice of Hearing and Request for Public Comments: Enforcement of U.S. WTO Rights in Large Civil Aircraft Dispute

AGENCY: Office of the United States Trade Representative.

ACTION: Notice of hearing, and request for comments.

SUMMARY: The U.S. Trade Representative is considering the additional list of products in the Annex to this notice, for inclusion on a final list of products to be subject to increased duties in connection with the enforcement of U.S. rights in the World Trade Organization (WTO) dispute against the European Union (EU) and certain EU member States addressed to EU subsidies on large civil aircraft. The interagency Section 301 Committee is seeking public comments and will hold a public hearing in connection with the possible imposition of increased duties on the products in the Annex to this notice.

DATES: To be assured of consideration, the following schedule applies:

July 24, 2019: Due date for submission of requests to appear at the public hearing and summary of testimony.

August 5, 2019: Due date for submission of written comments.

August 5, 2019: The Section 301 Committee will convene a public hearing in the Main Hearing Room of the U.S. International Trade Commission, 500 E Street SW, Washington DC 20436 beginning at 9:30 a.m.

August 12, 2019: Due date for submission of post-hearing rebuttal comments.

ADDRESSES: You should submit written comments through the Federal eRulemaking Portal: http://www.regulations.gov. Follow the instructions for submitting comments in sections D and E below. The docket number is USTR-2019-0003. For issues with on-line submissions, please contact the Office of the United States Trade Representative (USTR) Section 301 line at (202) 395-5725.

FOR FURTHER INFORMATION CONTACT: For questions about this investigation including the proposed tariff actions, contact Megan Grimball, Assistant General Counsel, at (202) 395-5725. For questions on customs classification of products identified in the Annex to this notice, contact Traderemedy@cbp.dhs.gov.

SUPPLEMENTARY INFORMATION:

A. Proceedings in the Investigation

In a notice published on April 12, 2019 (84 FR 15028), the U.S. Trade Representative announced the initiation of an investigation to enforce U.S. rights in the WTO dispute against the EU and certain EU member States addressed to EU subsidies on large civil aircraft. The April 12 notice, among other things, sought public comment on a preliminary list of EU products (the April 12 list) to be considered for inclusion on a final list of products that would be subject to additional ad valorem duties of up to 100 percent. As announced in the April 12 notice, the Section 301 Committee held a public hearing on May 15-16, 2019, and received testimony from over 40 individuals. Interested persons filed over 600 written submissions, including post-hearing comments.

A number of public comments submitted in response to the April 12 notice requested that the U.S. Trade Representative consider additional products that were not included in the April 12 list for possible inclusion on the final list of products to be subject to additional duties.

B. Consideration of Additional Products

The U.S. Trade Representative has decided to consider an additional list of products set out in the Annex to this notice, which may be included on a final list of products subject to additional ad valorem duties of up to 100 percent. The additional list takes into account public comments requesting the consideration of additional products not included on the April 12 list.

The additional list in the Annex to this notice contains 89 tariff subheadings. These subheadings are valued at approximately $4 billion in terms of the estimated import trade value for calendar year 2018. If the U.S. Trade Representative determines to take action in this investigation, a final list of products to be subject to additional duties may be drawn from both this and the April 12 lists. As stated in the April 12 notice, the final list will take into account the report of the WTO Arbitrator on the appropriate level of countermeasures to be authorized by the WTO.

C. Request for Public Comments

USTR invites comments from interested persons with respect to the possible inclusion of products from the additional list in the Annex to this notice on the final list of products subject to additional duties. In particular, USTR invites comments with respect to:

• The specific products in the additional list to be subject to increased duties;

• the level of the increase, if any, in the rate of duty; and

• whether increased duties on particular products on the additional list might have an adverse effect upon U.S. stakeholders, including small businesses and consumers.

D. Hearing Participation

The Section 301 Committee will convene a public hearing in the Main Hearing Room of the U.S. International Trade Commission, 500 E Street SW, Washington DC 20436 beginning at 9:30 a.m. on August 5, 2019. You must submit requests to appear at the hearing by July 24, 2019. The request to appear should include a written version of the testimony you expect to give. Remarks at the hearing may be no longer than five minutes to allow time for questions from the Section 301 Committee.

All submissions must be in English and sent electronically via www.regulations.gov. To submit a request to appear at the hearing via www.regulations.gov, enter docket number USTR-2019-0003. In the “type comment” field, include the name, address, email address, and telephone number of the person presenting the testimony. Attach testimony, and a pre-hearing submission if provided, by using the “upload file” field. USTR strongly prefers submissions in Adobe Acrobat (.pdf). The file name should include the name of the person who will be presenting the testimony. In addition, please submit a request to appear by email to 301aircraft@ustr.eop.gov. In the subject line of the email, please include the name of the person who will be presenting the testimony, followed by `Request to Appear'. Please also include the name, address, email address, and telephone number of the person who will be presenting testimony in the body of the email message.

E. Procedures for Written Submissions

All submissions must be in English and sent electronically via www.regulations.gov. To submit comments via www.regulations.gov, enter docket number USTR-2019-0003 on the home page and click “search.” The site will provide a search results page listing all documents associated with this docket. Find a reference to this notice and click on the link entitled “comment now!” For further information on using the www.regulations.gov website, please consult the resources provided on the website by clicking on “how to use regulations.gov” on the bottom of the www.regulations.gov home page. We will not accept hand-delivered submissions.

The www.regulations.gov website allows users to submit comments by filling in a “type comment” field or by attaching a document using an “upload file” field. USTR prefers that you submit comments in an attached document. If you attach a document, it is sufficient to type “see attached” in the “type comment” field. USTR strongly prefers submissions in Adobe Acrobat (.pdf). If you use an application other than Adobe Acrobat or Word (.doc), please indicate the name of the application in the “type comment” field.

File names should reflect the name of the person or entity submitting the comments. Please do not attach separate cover letters to electronic submissions; rather, include any information that might appear in a cover letter in the comments themselves. Similarly, to the extent possible, please include any exhibits, annexes, or other attachments in the same file as the comment itself, rather than submitting them as separate files.

For any comments submitted electronically containing business confidential information, the file name of the business confidential version should begin with the characters “BC”. Any page containing business confidential information must be clearly marked “BUSINESS CONFIDENTIAL” on the top of that page and the submission should clearly indicate, via brackets, highlighting, or other means, the specific information that is business confidential. If you request business confidential treatment, you must certify in writing that disclosure of the information would endanger trade secrets or profitability, and that the information would not customarily be released to the public. Filers of submissions containing business confidential information also must submit a public version of their comments. The file name of the public version should begin with the character “P”. The “BC” and “P” should be followed by the name of the person or entity submitting the comments or rebuttal comments. If these procedures are not sufficient to protect business confidential information or otherwise protect business interests, please contact the USTR Section 301 line at (202) 395-5725 to discuss whether alternative arrangements are possible.

USTR will post submissions in the docket for public inspection, except business confidential information. You can view submissions on the https://www.regulations.gov website by entering docket number USTR-2019-0003 in the search field on the home page.

Joseph Barloon,
General Counsel, Office of the U.S. Trade Representative.

Annex

The products that are enumerated and described in this Annex are being considered for additional import duties if they are the product of any of the twenty-eight member States of the European Union. All products that are classified in the 8-digit subheadings of the Harmonized Tariff Schedule of the United States (HTS) that are listed in this Annex are covered by the proposed action. The product descriptions that are contained in this Annex are provided for informational purposes only, and are not intended to delimit in any way the scope of the proposed action. Any questions regarding the scope of a particular HTS subheading should be referred to U.S. Customs and Border Protection. In the product descriptions, the abbreviation “nesoi” means “not elsewhere specified or included”.

HTS subheading | Product description
0203.22.90 | Frozen hams, shoulders and cuts thereof, with bone in, other than retail cuts.
0203.29.40 | Frozen meat of swine, other than retail cuts, nesoi.
0403.90.85 | Fermented milk o/than dried fermented milk or o/than dried milk with added lactic ferments.
0403.90.90 | Curdled milk/cream/kephir & other fermented or acid. milk/cream subject to add US note 10 to Ch.4.
0403.90.95 | Curdled milk/cream/kephir & other fermented or acid. milk/cream subj to GN 15 or Ch4 US note 10.
0404.10.05 | Whey protein concentrates.
0405.20.20 | Butter substitute dairy spreads, over 45% butterfat weight, subject to quota pursuant to chapter 4 additional US note 14.
0405.20.30 | Butter substitute dairy spreads, over 45% butterfat weight, not subj to gen note 15 and in excess of quota in ch. 4 additional US note 14.
0405.20.80 | Other dairy spreads, not butter substitutes or of a type provided for in chapter 4 additional US note 1.
0405.90.10 | Fats and oils derived from milk, other than butter or dairy spreads, subject to quota pursuant to chapter 4 additional US note 14.
0406.10.44 | Fresh (unripened/uncured) edam and gouda cheeses, cheese/subs for cheese cont or processed therefrom, subj to Ch4 US note 20, not GN15.
0406.10.48 | Fresh (unripened/uncured) edam and gouda cheeses, cheese/subs for cheese cont or processed therefrom, not sub to Ch4 US note 20, not GN15.
0406.10.54 | Fresh (unripened/uncured) Italian-type cheeses from cow milk, cheese/substitutes cont or proc therefrom, subj to Ch4 US nte 21, not GN15.
0406.10.58 | Fresh (unripened/uncured) Italian-type cheeses from cow milk, cheese/substitutes cont or proc therefrom, not subj to Ch4 US note 21 or GN15.
0406.20.51 | Romano, reggiano, provolone, provoletti, sbrinz and goya, made from cow's milk, grated or powdered, subject to add US note 21 to Ch.4.
0406.20.53 | Romano, reggiano, provolone, provoletti, sbrinz and goya, made from cow's milk, grated or powdered, not subj to Ch4 US nte 21 or GN15.
0406.20.77 | Cheese containing or processed from Italian-type cheeses made from cow's milk, grated or powdered, subject to add US note 21 to Ch. 4.
0406.20.79 | Cheese containing or processed from Italian-type cheeses made from cow's milk, grated or powdered, not subject to add US note 21 to Ch. 4.
0406.20.87 | Cheese (including mixtures), nesoi, n/o 0.5% by wt. of butterfat, grated or powdered, not subject to add US note 23 to Ch. 4.
0406.30.51 | Gruyere-process cheese, processed, not grated or powdered, subject to add. US note 22 to Ch. 4.
0406.30.55 | Processed cheeses made from sheep's milk, including mixtures of such cheeses, not grated or powdered.
0406.30.79 | Processed cheese cont/procd from Italian-type, not grated/powdered, not subject to add US note 21 to Ch. 4, not GN15.
0406.30.85 | Processed cheese (incl. mixtures), nesoi, n/o 0.5% by wt. butterfat, not grated or powdered, subject to Ch4 US note 23, not GN15.
0406.40.54 | Blue-veined cheese, nesoi, in original loaves, subject to add. US note 17 to Ch. 4.
0406.90.16 | Edam and gouda cheese, nesoi, subject to add. US note 20 to Ch. 4.
0406.90.41 | Romano, Reggiano, Parmesan, Provolone, and Provoletti cheese, nesoi, from cow's milk, subject to add. US note 21 to Ch. 4.
0406.90.42 | Romano, Reggiano, Parmesan, Provolone, and Provoletti cheese, nesoi, from cow's milk, not subj to GN 15 or Ch4 US note 21.
0406.90.43 | Reggiano, Parmesan, Provolone, and Provoletti cheese, nesoi, not from cow's milk, not subject to gen. note 15.
0406.90.68 | Cheeses & subst. for cheese(incl. mixt.), nesoi, w/romano/reggiano/parmesan/provolone/etc, f/cow milk, not subj. Ch4 US note 21, not GN15.
0711.20.18 | Olives, n/pitted, green, in saline sol., in contain. >8 kg, drained wt, for repacking or sale, subject to add. US note 5 to Ch. 7.
0711.20.28 | Olives, n/pitted, green, in saline sol., in contain. >8 kg, drained wt, for repacking or sale, not subject to add. US note 5 to Ch. 7.
0711.20.38 | Olives, n/pitted, nesoi.
0711.20.40 | Olives, pitted or stuffed, provisionally preserved but unsuitable in that state for immediate consumption.
0811.90.80 | Fruit, nesoi, frozen, whether or not previously steamed or boiled.
0812.10.00 | Cherries, provisionally preserved, but unsuitable in that state for immediate consumption.
0812.90.10 | Mixtures of two or more fruits, provisionally preserved, but unsuitable in that state for consumption.
0813.40.30 | Cherries, dried.
0901.21.00 | Coffee, roasted, not decaffeinated.
0901.22.00 | Coffee, roasted, decaffeinated.
1601.00.20 | Pork sausages and similar products of pork, pork offal or blood; food preparations based on these products.
1602.41.20 | Pork hams and cuts thereof, not containing cereals or vegetables, boned and cooked and packed in airtight containers.
1602.41.90 | Prepared or preserved pork hams and cuts thereof, not containing cereals or vegetables, nesoi.
1602.42.20 | Pork shoulders and cuts thereof, boned and cooked and packed in airtight containers.
1602.42.40 | Prepared or preserved pork shoulders and cuts thereof, other than boned and cooked and packed in airtight containers.
1602.49.10 | Prepared or preserved pork offal, including mixtures.
1602.49.20 | Pork other than ham and shoulder and cuts thereof, not containing cereals or vegetables, boned and cooked and packed in airtight containers.
1602.49.40 | Prepared or preserved pork, not containing cereals or vegetables, nesoi.
1602.49.90 | Prepared or preserved pork, nesoi.
1902.11.20 | Uncooked pasta, not stuffed or otherwise prepared, containing eggs, exclusively pasta.
1902.11.40 | Uncooked pasta, not stuffed or otherwise prepared, containing eggs, nesoi, including pasta packaged with sauce preparations.
1902.19.20 | Uncooked pasta, not stuffed or otherwise prepared, not containing eggs, exclusively pasta.
1902.19.40 | Uncooked pasta, not stuffed or otherwise prepared, not containing eggs, nesoi, including pasta packaged with sauce preparations.
1902.20.00 | Stuffed pasta, whether or not cooked or otherwise prepared.
1902.30.00 | Pasta nesoi.
1905.32.00 | Waffles and wafers.
2005.70.12 | Olives, green, not pitted, in saline, not ripe.
2008.40.00 | Pears, otherwise prepared or preserved, nesoi.
2008.60.00 | Cherries, otherwise prepared or preserved, nesoi.
2008.70.20 | Peaches (excluding nectarines), otherwise prepared or preserved, not elsewhere specified or included.
2008.97.90 | Mixtures of fruit or other edible parts of plants, otherwise prepared or preserved, nesoi (excluding tropical fruit salad).
2009.89.65 | Cherry juice, concentrated or not concentrated.
2101.11.21 | Instant coffee, not flavored.
2103.90.80 | Mixed condiments and mixed seasonings, not described in add US note 3 to Ch. 21.
2208.30.30 | Irish and Scotch whiskies.
2208.30.60 | Whiskies, other than Irish and Scotch whiskies.
2814.10.00 | Anhydrous ammonia.
2814.20.00 | Ammonia in aqueous solution.
3102.10.00 | Urea, whether or not in aqueous solution.
3102.21.00 | Ammonium sulfate.
3102.29.00 | Double salts and mixtures of ammonium sulfate and ammonium nitrate.
3102.30.00 | Ammonium nitrate, whether or not in aqueous solution.
3102.40.00 | Mixtures of ammonium nitrate with calcium carbonate or other inorganic nonfertilizing substances.
3102.50.00 | Sodium nitrate.
3102.60.00 | Double salts and mixtures of calcium nitrate and ammonium nitrate.
3102.80.00 | Mixtures of urea and ammonium nitrate in aqueous or ammoniacal solution.
3102.90.01 | Mineral or chemical fertilizers, nitrogenous, nesoi, including mixtures not specified elsewhere in heading 3102.
7202.92.00 | Ferrovanadium.
7303.00.00 | Cast iron, tubes, pipes and hollow profiles.
7307.11.00 | Cast nonmalleable iron, fittings for tubes or pipes.
7407.10.50 | Refined copper, bars and rods.
7407.21.90 | Copper-zinc base alloys (brass), bars & rods nesoi, not having a rectangular cross section.
7409.11.50 | Refined copper, plates, sheets and strip, in coils, with a thickness over 0.15mm but less than 5 mm.
7409.21.00 | Copper-zinc base alloys (brass), plates, sheets and strip, in coils.
7409.29.00 | Copper-zinc base alloys (brass), plates, sheets and strip, not in coils.
7409.31.50 | Copper-tin base alloys (bronze), plates, sheets and strip, in coils, with a thickness o/0.15mm but less than 5mm & a width of 500mm or more.
7409.31.90 | Copper-tin base alloys (bronze), plates, sheets and strip, in coils, w/thickness o/0.15mm but less than 5mm & a width of less than 500mm.
7409.40.00 | Copper-nickel base alloys (cupro-nickel) or copper-nickel-zinc base alloys (nickel silver), plates, sheets and strip, w/thickness o/0.15mm.
7409.90.90 | Copper alloys (o/than brass/bronze/cupro-nickel/nickel silver), plates, sheets & strip, w/thick. o/0.15mm but less th/5mm & width less 500mm.
7410.11.00 | Refined copper, foil, w/thickness of 0.15 mm or less, not backed.

[FR Doc. 2019-14352 Filed 7-3-19; 8:45 am]

BILLING CODE 3290-F9-P